DEPARTMENT OF COMMERCE

National Oceanic and Atmospheric Administration

RIN 0648-X081

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP would allow two commercial fishing vessels to temporarily retain undersize fish and fish in excess of possession limits for the purpose of data collection in support of research conducted by the Gulf of Maine Research Institute (GMRI). The Assistant Regional Administrator has made a preliminary determination that the activities authorized under this EFP would be consistent with the goals and objectives of the Summer Flounder, Scup, and Black Sea Bass Fishery Management Plan (FMP). However, further review and consultation may be necessary before a final determination is made to issue an EFP. Therefore, NMFS announces that the Assistant Regional Administrator proposes to recommend that an EFP be issued.

Regulations under the Magnuson-Stevens Fishery Conservation and Management Act require publication of this notification to provide interested parties the opportunity to comment on applications for proposed EFPs.

DATES: Comments must be received on or before May 13, 2009.

ADDRESSES: You may submit written comments by any of the following methods:

• Email: DA9-103@noaa.gov. Include in the subject line “Comments on GMRI TED EFP.”

• Mail: Patricia A. Kurkul, Regional Administrator, NMFS, NE Regional Office, 55 Great Republic Drive, Gloucester, MA 01930. Mark the outside of the envelope “Comments on GMRI TED EFP.”

• Fax: (978) 281-9135.

FOR FURTHER INFORMATION CONTACT: Emily Bryant, Fishery Management Specialist, 978-281-9244.

SUPPLEMENTARY INFORMATION: GMRI was selected by the NOAA Protected Species Branch to conduct a study titled, “Study Comparison in Flounder Trawl Gear.” The objective of this project is to test and compare the catch performance of a trawl net fitted with a NMFS turtle excluder device (TED) with a leatherback sea turtle opening to an identical net without a TED or opening in the summer flounder fishery. This objective would be accomplished by documenting catch rates of summer flounder and other finfish bycatch between the two trawl gear types and examining the effects of these gear types on summer flounder length frequencies.

GMRI proposes to employ two commercial vessels that operate in the summer flounder fishery to conduct this research. Investigators propose to conduct approximately six 90-minute tows per day for 16 days, for a total of 96 tows, during May — June 2009. The location would be performed in the Mid-Atlantic region, specifically the summer flounder fishing grounds off Delmarva and New Jersey north of the Summer Flounder Fishery Sea Turtle Protection Area. Investigators would weigh and measure all summer flounder and finfish bycatch collected in each tow and return everything but legal-sized summer flounder within regulated possession limits to the sea as quickly as possible. All legal catch would be sold.

GMRI submitted a complete EFP application on April 13, 2009, requesting exemption from minimum fish size and possession limit regulations for the purpose of data collection prior to discard. Undersize fish and fish above the vessel's possession limit would be returned to the sea as quickly as possible to minimize discard mortality. All other elements of these fishing trips would comply with fishing regulations.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited. If the research project is terminated for any reason prior to completion, any unused funds collected from catch sold to pay for research expenses may be refunded to NOAA.

Authority: 16 U.S.C. 1801 et seq.

Dated: April 22, 2009.
Alan D. Risenhoover
Director, Office of Sustainable Fisheries, National Marine Fisheries Service.

[FR Doc. E9-9646 Filed 4-27-09; 8:45 am]

BILLING CODE 3510-22-S